DEPARTMENT OF ENERGY

Federal Energy Regulatory Commission

[Docket Nos. ER05-784-000, ER05-785-000 and ER05-786-000]

California Independent System Operator Corp.; Notice of Designation of Certain Commission Personnel as Non-Decisional

June 22, 2005.

The following Commission staff members have been designated as non-decisional in the above-captioned proceedings.

Office of Market Oversight and Investigations

William Hederman

Stephen Harvey

Lee Ann Watson

Harry Singh

Steven Michals

Eric Hsieh

Bernardo Piereck

Mark Higgins

Martin Ramirez

Magalie R. Salas,
Secretary.

[FR Doc. E5-3494 Filed 7-1-05; 8:45 am]

BILLING CODE 6717-01-P